DEPARTMENT OF HEALTH AND HUMAN SERVICES

National Institutes of Health

National Institute of Biomedical Imaging and Bioengineering; Amended Notice of Meeting

Notice is hereby given of a change in the meeting of the National Advisory Council for Biomedical Imaging and Bioengineering, May 29, 2003, 8:30 a.m. to May 30, 2003, 5 p.m., National Institutes of health, Neuroscience Center, 6001 Executive Boulevard, Rockville, MD 20852 which was published in the Federal Register on April 22, 2003, 68 FR 7719841.

The meeting agenda has changed so that the open session of the meeting will be in the morning on May 29, and the closed session in the afternoon. The meeting is partially closed to the public.

Dated: May 8, 2003.
Anna P. Snouffer,
Deputy Director, Office of Federal Advisory Committee Policy.

[FR Doc. 03-12088 Filed 5-14-03; 8:45 am]

BILLING CODE 4140-01-M